OFFICE OF PERSONNEL MANAGEMENT

Excepted Service

AGENCY: Office of Personnel Management.

ACTION: Notice.

SUMMARY: This gives notice of OPM decisions granting authority to make appointments under Schedules A, B and C in the excepted service as required by 5 CFR 6.6 and 213.103.

FOR FURTHER INFORMATION CONTACT: Quasette Crowner, Chief, Executive Resources Group, Center for Leadership and Executive Resources Policy, Division for Strategic Human Resources Policy, 202-606-8046.

SUPPLEMENTARY INFORMATION: Appearing in the listing below are the individual authorities established under Schedules A, B and C between April 1, 2005 and April 30, 2005. Future notices will be published on the fourth Tuesday of each month, or as soon as possible thereafter. A consolidated listing of all authorities as of June 30 is published each year.

Schedule A

Section 213.3306 Department of Defense

Temporary or time-limited positions in direct support of U.S. Government efforts to rebuild and create an independent, free and secure Iraq and Afghanistan, when no other appropriate appointing authority applies. Positions will generally be located in Iraq or Afghanistan, but may be in other locations, including the United States, when directly supporting operations in Iraq or in Afghanistan. No new appointments may be made under this authority after March 31, 2009. Effective April 1, 2005.

Section 213.3170 Millennium Challenge Corporation

(a) All positions established to create the Millennium Challenge Corporation. No new appointment may be made under this authority after March 31, 2006. Effective April 1, 2005.

Schedule B

No Schedule B appointments were approved during April 2005.

Schedule C

The following Schedule C appointments were approved for April 2005:

Section 213.3303 Executive Office of the President

Office of Management and Budget

BOGS00160 Press Secretary to the Associate Director, Strategic Planning and Communications. Effective April 05, 2005.

Office of National Drug Control Policy

QQGS00036 Public Affairs Specialist to the Press Secretary (Assistant Affairs). Effective April 06, 2005.

QQGS00037 Public Affairs Specialist to the Press Secretary (Assistant Affairs). Effective April 06, 2005.

Section 213.3304 Department of State

DSGS60952 Public Affairs Specialist to the HIV/AIDS Coordinator. Effective April 01, 2005.

DSGS60593 Foreign Affairs Officer to the Deputy Assistant Secretary, Bureau of Near Eastern and South Asian Affairs. Effective April 6, 2005.

DSGS60957 Supervisory Protocol Officer (Visits) to the Deputy Chief of Protocol. Effective April 14, 2005.

DSGS60958 Staff Assistant to the Chief Financial Officer. Effective April 14, 2005.

DSGS60956 Legislative Management Officer to the Assistant Secretary for Legislative and Intergovernmental Affairs. Effective April 19, 2005.

DSGS60959 Staff Assistant to the Deputy Secretary. Effective April 21, 2005.

DSGS60960 Senior Advisor to the Assistant Secretary for International Organizational Affairs. Effective April 29, 2005.

DSGS60961 Public Affairs Specialist to the Assistant Secretary for Public Affairs. Effective April 29, 2005.

Section 213.3305 Department of the Treasury

DYGS00455 Special Assistant to the Deputy Assistant Secretary (Financial Education). Effective April 21, 2005.

DYGS00456 Special Assistant to the Deputy General Counsel. Effective April 21, 2005.

Section 213.3306 Department of the Defense

DDGS16870 Personal and Confidential Assistant to the Principal Deputy Assistant Secretary of Defense (International Security Policy). Effective April 01, 2005.

DDGS16867 Defense Fellow to the Special Assistant to the Secretary of Defense for White House Liaison. Effective April 06, 2005.

DDGS16871 Defense Fellow to the Special Assistant to the Secretary of Defense for House Liaison. Effective April 27, 2005.

Section 213.3307 Department of the Army

DWGS60016 Confidential Assistant to the Secretary of the Army. Effective April 12, 2005.

Section 213.3308 Department of the Navy

DNGS60074 Confidential Staff Assistant to the Deputy Assistant Secretary of the Navy (Financial Management and Comptroller). Effective April 05, 2005.

Section 213.3310 Department of Justice

DJGS00302 Associate Director to the Director, Office of Intergovernmental and Public Liaison. Effective April 04, 2005.

DJGS00225 Special Assistant to the Director of the Violence Against Women Office. Effective April 05, 2005.

DJGS00055 Chief of Staff to the Assistant Attorney General (Legal Policy). Effective April 22, 2005.

Section 213.3311 Department of Homeland Security

DMGS00345 Staff Assistant to the White House Liaison. Effective April 04, 2005.

DMGS00341 Special Assistant to the White House Liaison. Effective April 05, 2005.

DMGS00348 Confidential Assistant to the Deputy Secretary of the Department of Homeland Security. Effective April 06, 2005.

DMGS00343 Special Assistant for Border and Transportation Security Policy to the Deputy Assistant Secretary for Border and Transportation Security Policy. Effective April 12, 2005.

DMGS00344 Coordination Officer for State and Territorial Affairs to the Director, State and Local Affairs. Effective April 12, 2005.

DMGS00340 Press Assistant to the Assistant Secretary for Public Affairs. Effective April 13, 2005.

DMGS00347 Executive Assistant to the Chief of Staff. Effective April 13, 2005.

DMGS00350 Deputy Press Secretary to the Assistant Secretary for Public Affairs. Effective April 20, 2005.

DMGS00351 Assistant Press Secretary to the Assistant Secretary for Public Affairs. Effective April 20, 2005.

DMGS00354 Special Assistant and Writer-Editor to the Executive Secretary. Effective April 22, 2005.

DMGS00356 Special Assistant to the Chief of Staff. Effective April 26, 2005.

DMGS00355 Confidential Assistant to the Deputy Chief of Staff. Effective April 27, 2005.

DMGS00349 Senior Advisor to the Assistant Secretary for Infrastructure Protection. Effective April 29, 2005.

DMGS00358 Assistant Press Secretary to the Assistant Secretary for Public Affairs. Effective April 29, 2005.

Section 213.3312 Department of the Interior

DIGS70011 Special Assistant (Communication) to the Director, External and Intergovernmental Affairs. Effective April 06, 2005.

Section 213.3313 Department of Agriculture

DAGS00786 Special Assistant to the Assistant Secretary for Administration. Effective April 06, 2005.

DAGS00787 Director of Advance to the Director of Communications. Effective April 08, 2005.

DAGS00788 Press Secretary to the Director of Communications. Effective April 18, 2005.

DAGS00789 Staff Assistant to the Secretary. Effective April 18, 2005.

DAGS00790 Confidential Assistant to the Administrator for Risk Management. Effective April 19, 2005.

DAGS00800 Confidential Assistant to the Administrator, Rural Housing Service. Effective April 29, 2005.

Section 213.3314 Department of Commerce

DCGS00220 Confidential Assistant to the Chief of Staff. Effective April 01, 2005.

DCGS00486 Deputy Director of Speechwriting to the Director for Speechwriting. Effective April 07, 2005.

DCGS00686 Director of Advance to the Chief of Staff. Effective April 08, 2005.

DCGS60394 Deputy Director, Office of Public Affairs to the Director of Public Affairs. Effective April 11, 2005.

DCGS60694 Senior Advisor to the Director, Bureau of the Census. Effective April 12, 2005.

DCGS00452 Confidential Assistant to the Deputy Assistant Secretary for Domestic Operations. Effective April 13, 2005.

DCGS60676 Public Affairs Specialist to the Director of Public Affairs. Effective April 15, 2005.

DCGS00643 Confidential Assistant to the Deputy Under Secretary and Deputy Director of U.S. Patent and Trademark Office. Effective April 26, 2005.

DCGS00321 Chief of Congressional Affairs to the Associate Director for Communications. Effective April 29, 2005.

DCGS00383 Confidential Assistant to the Executive Director for Trade Promotion and Outreach. Effective April 29, 2005.

DCGS00435 Confidential Assistant to the Deputy Secretary. Effective April 29, 2005.

DCGS00438 Director of Advisory Committees to the Assistant Secretary for Manufacturing and Services. Effective April 29, 2005.

DCGS00457 Confidential Assistant to the Director of Scheduling. Effective April 29, 2005.

DCGS00575 Confidential Assistant to the Executive Assistant. Effective April 29, 2005.

Section 213.3315 Department of Labor

DLGS60212 Special Assistant to the Director of Operations. Effective April 12, 2005.

Section 213.3316 Department of Health and Human Services

DHGS60062 Senior Advisor for Legislation to the Director, Center for Disease Control and Prevention Administration. Effective April 29, 2005.

Section 213.3317 Department of Education

DBGS00380 Special Assistant to the Assistant Secretary for Management/Chief Information Officer. Effective April 05, 2005.

DBGS00386 Special Assistant to the Chief of Staff. Effective April 08, 2005.

DBGS00388 Special Assistant to the Chief of Staff. Effective April 11, 2005.

DBGS00389 Special Assistant to the Chief of Staff. Effective April 11, 2005.

DBGS00387 Confidential Assistant to the Assistant Deputy Secretary for Safe and Drug-Free Schools. Effective April 13, 2005.

Section 213.3318 Environmental Protection Agency

EPGS05031 Program Specialist to the Assistant Administrator for Administration and Resources Management. Effective April 01, 2005.

EPGS05020 Director, Office of Long-Range Communications to the Associate Administrator for Public Affairs. Effective April 20, 2005.

EPGS05021 Program Advisor to the Associate Administrator for Public Affairs. Effective April 22, 2005.

EPGS05022 Program Advisor (Operations) to the Deputy Chief of Staff (Operations). Effective April 26, 2005.

EPGS05027 Deputy Associate Administrator for Policy, Economics and Innovation to the Associate Administrator for Policy, Economics and Innovation. Effective April 26, 2005.

Section 213.3323 Overseas Private Investment Corporation

PQGS05007 Special Assistant to the Vice President, Investment Funds. Effective April 05, 2005.

PQGS05008 Confidential Assistant to the Chief of Staff. Effective April 05, 2005.

PQGS05016 Confidential Assistant to the Vice President, External Affairs. Effective April 05, 2005.

PQGS05017 Confidential Assistant to the Chief of Staff. Effective April 05, 2005.

Section 213.3331 Department of Energy

DEGS00464 Special Assistant to the Director, Office of Electricity and Energy Assurance. Effective April 01, 2005.

DEGS00463 Scheduler to the Secretary to the Director, Office of Scheduling and Advance. Effective April 04, 2005.

DEGS00466 Special Assistant to the Deputy Administrator for Defense Nuclear Nonproliferation. Effective April 21, 2005.

DEGS00468 Special Assistant for Communications and Outreach to the Director, Office of Communications and Outreach. Effective April 22, 2005.

Section 213.3331 Federal Energy Regulatory Commission

DRGS60004 Director, Public Affairs to the Deputy Director, External Affairs. Effective April 29, 2005.

Section 213.3332 Small Business Administration

SBGS00585 Director of Scheduling to the Chief of Staff and Chief Operating Officer. Effective April 05, 2005.

SBGS00586 Special Assistant to the Deputy Administrator. Effective April 05, 2005.

Section 213.3337 General Services Administration

GSGS00159 Deputy Director for Communications to the Deputy Associate Administrator for Communications. Effective April 12, 2005.

GSGS00162 Special Assistant to the Deputy Associate Administrator for Communications. Effective April 12, 2005.

GSGS00163 Confidential Assistant to the Associate Administrator for Performance Improvement. Effective April 12, 2005.

GSGS60113 Special Assistant to the Regional Administrator, Region 1 Boston. Effective April 20, 2005.

GSGS00158 Confidential Assistant to the Associate Administrator for Small Business Utilization. Effective April 21, 2005.

GSGS00164 Senior Advisor to the Commissioner, Federal Technology Service. Effective April 29, 2005.

Section 213.3346 Selective Service System

SSGS03359 Executive Officer/Chief of Staff to the Director Selective Service System. Effective April 04, 2005.

Section 213.3384 Department of Housing and Urban Development

DUGS60343 Special Assistant to the Regional Director. Effective April 01, 2005.

DUGS60482 Deputy Director, Center for Faith Based and Community Initiatives to the Director, Center for Faith Based and Community Initiatives. Effective April 05, 2005.

DUGS06213 Staff Assistant to the Assistant Secretary for Policy Development and Research. Effective April 8, 2005

DUGS60561 Deputy Assistant Secretary for Public Affairs to the Assistant Secretary for Public Affairs. Effective April 08, 2005.

Section 213.3394 Department of Transportation

DTGS60351 Counselor to the Deputy Secretary. Effective April 04, 2005.

DTGS60375 White House Liaison to the Chief of Staff. Effective April 15, 2005.

Section 213.3396 National Transportation Safety Board

TBGS60002 Special Assistant to the Chairman. Effective April 20, 2005.

Authority: 5 U.S.C. 3301 and 3302; E.O. 10577, 3 CFR 1954-1958 Comp., P.218

Office of Personnel Management.
Dan G. Blair,
Acting Director.

[FR Doc. 05-10711 Filed 5-27-05; 8:45 am]

BILLING CODE 6325-39-P